DEPARTMENT OF DEFENSE

Office of the Secretary

Notification of an Open Meeting of the National Defense University Board of Visitors (BOV); Correction

AGENCY: National Defense University, DoD.

ACTION: Notice of open meeting; correction.

SUMMARY: On March 30, 2012 (77 FR 19265-19266), the National Defense University Board of Visitors gave notice of a meeting to be held on May 2 and 3, 2012, from 11:30 a.m. to 5 p.m. on May 2 and continuing on May 3 from8 a.m. to 1 p.m. The Department of Defense announces that the meeting date and time have been changed. All other information in the notice remains the same.

DATES: The new meeting date and time is May 2, 2012 from 10 a.m. to 5 p.m. The meeting originally scheduled for May 3, 2012 has been cancelled.

ADDRESSES: The Board of Visitors meeting will be held at Marshall Hall, Building 62, Room 155, the National Defense University, 300 5th Avenue SW., Fort McNair, Washington, DC 20319-5066.

FOR FURTHER INFORMATION CONTACT: The point of contact for this notice is Ms. Dolores Hodge at (202) 685-0082, Fax (202) 685-3748 or HodgeD@ndu.edu.

Dated: April 24, 2012.
Aaron Siegel,
Alternate OSD Federal Register Liaison Officer, Department of Defense.

[FR Doc. 2012-10226 Filed 4-26-12; 8:45 am]

BILLING CODE 5001-06-P